FEDERAL COMMUNICATIONS COMMISSION

47 CFR Part 73

[DA 05-308; MM Docket No. 01-86; RM-10079]

Radio Broadcasting Services; Arapahoe and Lost Cabin, WY

AGENCY: Federal Communications Commission.

ACTION: Proposed rule; dismissal.

SUMMARY: At the request of Idaho Broadcasting Consortium, Inc., the Audio Division dismisses the petition for rule making proposing the reallotment of Channel 256C from Lost Cabin to Arapahoe, Wyoming, and the modification of Station KWYW(FM)'s license accordingly. See 66 FR 20224, April 20, 2001. A showing of continuing interest is required before a channel will be allotted. It is the Commission's policy to refrain from making an allotment to a community absent an expression of interest. Therefore, we will grant the request to dismiss the instant proposal.

FOR FURTHER INFORMATION CONTACT: Sharon P. McDonald, Media Bureau, (202) 418-2180.

SUPPLEMENTARY INFORMATION: This is a synopsis of the Commission's Report and Order, MM Docket No. 01-86, adopted February 2, 2005 , and released February 4, 2005. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. This document is not subject to the Congressional Review Act. (The Commission, is, therefore, not required to submit a copy of this Report and Order to GAO, pursuant to the Congressional Review Act, see 5 U.S.C. 801(a)(1)(A) because the proposed rule was dismissed.

Federal Communications Commission.
John A. Karousos,
Assistant Chief, Audio Division, Media Bureau.

[FR Doc. 05-3212 Filed 2-17-05; 8:45 am]

BILLING CODE 6712-01-P